DEPARTMENT OF HEALTH AND HUMAN SERVICES

Centers for Medicare & Medicaid Services

[CMS-5036-N]

Medicare Program; Solicitation for Proposals for the Cancer Prevention and Treatment Demonstration for Ethnic and Racial Minorities

AGENCY: Centers for Medicare & Medicaid Services (CMS), HHS.

ACTION: Notice.

SUMMARY: This notice informs interested parties of an opportunity to apply for cooperative agreements to implement and operate demonstration projects under the Cancer Prevention and Treatment Demonstration for Ethnic and Racial Minorities as required by Section 122 of the Medicare, Medicaid, and SCHIP Benefits Improvement and Protection Act of 2000 (BIPA). In addition, this notice contains information on how to obtain the complete solicitation and supporting information.

DATES: Applications will be considered timely if we receive them on or before March 23, 2005.

ADDRESSES: Mail applications to—Centers for Medicare & Medicaid Services; Office of Operations Management, AGG, Cooperative Agreements Management Staff; Attention: Judith L. Norris; 7500 Security Boulevard, Mailstop C2-21-15; Baltimore, Maryland 21244-1850.

Please refer to file code CMS-5036-N on the application. Because of staffing and resource limitations, we cannot accept applications by facsimile (FAX) transmission. Applications postmarked after the closing date, or postmarked on or before the closing date but not received in time for panel review, will be considered late applications.

FOR FURTHER INFORMATION CONTACT: Diane Merriman, CMS Project Officer, at (410) 786-7237 or CPTDEMO@cms.hhs.gov. General information regarding this initiative is available on the DHHS Web site at http://www.grants.gov.

SUPPLEMENTARY INFORMATION:

I. Background

Section 122(b) of the Medicare, Medicaid, and SCHIP Benefits Improvement and Protection Act of 2000 (BIPA) (Pub. L. 106-554) requires us to evaluate best practices in the private sector, community programs, and academic research to identify methods that reduce disparities among individuals of ethnic and racial minority groups in the prevention and treatment of cancer.

As specified in Sections 122(a) and (b) of BIPA, we are to design and implement at least nine demonstration projects in specific target populations for the purpose of developing models and evaluating methods that: (1) Improve the quality of items and services provided to target individuals in order to facilitate reduced disparities in early detection and treatment of cancer; (2) improve clinical outcomes, satisfaction, quality of life, and appropriate use of Medicare-covered services and referral patterns among those target individuals with cancer; (3) eliminate disparities in the rate of preventive cancer screening measures; and (4) promote collaboration with community-based organizations to ensure cultural competency of health care professionals and linguistic access for persons with limited English proficiency.

Each of the following four legislatively-mandated target populations are required to be the subject of two separate demonstration projects: American Indians (including Alaskan Natives, Eskimos and Aleuts); Asian Americans and Pacific Islanders; Blacks; and Hispanics. At least one of the nine required demonstration projects must be implemented in a rural area, and one must be implemented in an inner-city area. In addition, one of the nine demonstration projects must be implemented in the Pacific Islands.

If the initial demonstration evaluation indicates that these projects: (1) Reduce Medicare expenditures; or (2) do not increase Medicare expenditures, reduce ethnic and racial health disparities, and increase beneficiary and health care provider satisfaction, the existing demonstration projects will continue, and the number of demonstration projects may be expanded in the future.

II. Provisions of the Notice

The purpose of this notice is to inform interested parties of an opportunity to apply for cooperative agreements to implement cancer prevention and treatment demonstration projects for ethnic and racial minorities.

As specified in Section 122 of BIPA, we will award at least nine cooperative agreement demonstration projects that will identify methods to reduce disparities in early cancer screening, diagnosis, and treatment for Black, Hispanic, Asian American and Pacific Islander, and American Indian (including Alaskan Natives, Eskimos, and Aleuts) Medicare beneficiary populations. Award recipients are expected to use the best available scientific evidence to identify promising models of cancer screening, diagnosis and treatment interventions to promote health and the appropriate utilization of Medicare covered services, eliminate disparities in cancer detection and treatment among ethnic and racial populations of Medicare beneficiaries, and provide information to improve the effectiveness of the Medicare program.

The Congress authorized the Cancer Prevention and Treatment Demonstration for Ethnic and Racial Minorities project for a potentially indefinite period of time, and appropriated $25 million in funding for the initial phase of the program. The demonstration projects will have a 3- to 5-year operation period. We will consider an award of up to $50,000 per demonstration project to cover initial implementation costs. The entire award will not be made initially but will be distributed incrementally between the time of conditional awards and the approval of the demonstration by the Office of Management and Budget (OMB). We also expect the costs of conducting these demonstration projects to range from $400,000 to $1.5 million per project per year. These costs will be reimbursed through capitation payment to the demonstration site. No State or local matching funds are required. Furthermore, we anticipate that projects will be awarded in mid-2005, and that project startup activities would begin immediately after completion of the waiver cost process (in late 2005).

The facilitation activities to be funded under these demonstration projects will focus on three areas of potential cancer disparity reduction: screening, diagnosis, and treatment. The applicant will provide facilitation services for two populations: (1) Medicare beneficiaries belonging to a defined ethnic or racial minority group who do not have a current diagnosis of cancer before enrollment in the demonstration project; and (2) Medicare beneficiaries belonging to a defined ethnic or racial minority who have been diagnosed with cancer before enrollment in the demonstration project.

For the first population, the applicant must propose strategies for improving outcomes for cancers of the breast, cervix, colon and/or rectum, and prostate through facilitation of: (1) Cancer screening services; (2) follow-up of abnormal findings and diagnosis; and (3) improved access to and follow-up of treatment and adjuvant treatment services. For the second population, the applicant must propose facilitation strategies to improve access to and follow-up of treatment and adjuvant treatment services for confirmed diagnosis of at least one of the demonstration-specified cancers and/or lung cancer.

Potentially qualified applicants include, but are not limited to: Disease management organizations; health insurers; physician group practices; coordinated care services providers; provider-sponsored organizations; academic medical centers; comprehensive cancer centers; special population networks; community clinical oncology programs; community-based health organizations; community health centers; federally qualified health centers; minority institutions such as, among others, Historically Black Colleges and Universities, Hispanic Serving Institutions, and Hispanic health organizations and associations; tribal organizations; a consortium of the above entities; or any other legal entity that the Secretary determines to be appropriate. We strongly encourage the establishment of collaborative consortia for this demonstration. The applicant must demonstrate its ability to effectively deliver cancer screening, diagnosis, and treatment facilitation services on a capitation basis to one or more of the following populations: Black, Hispanic, Asian American and Pacific Islander, and American Indian (including Alaskan Natives, Eskimos, and Aleuts) Medicare beneficiaries. Interested parties are to obtain complete solicitation and supporting information on the DHHS Web site at http://www.grants.gov.

III. Collection of Information Requirements

The application associated with this demonstration entitled “Medicare Waiver Demonstration Application” is currently approved under OMB approval number 0938-0880, with a current expiration date of July 31, 2006.

In addition, the collection requirements associated with this demonstration do not impose information collection and record keeping requirements, because they meet the “information” definition exception under 5 CFR 1320.3(h)(5) which states: “ ‘Information’ does not generally include items in the following categories: (5) facts or opinions obtained initially or in follow-on requests, from individuals (including individuals in control groups) under treatment or clinical examination in connection with research on or prophylaxis to prevent a clinical disorder, direct treatment of that disorder, or the interpretation of biological analyses of body fluids, tissues, or other specimens, or the identification or classification of such specimens. * * *”

Authority: Section 122 of the Medicare, Medicaid, and SCHIP Benefits Improvement and Protection Act of 2000 (BIPA) (Pub. L. 106-554).

(Catalog of Federal Domestic Assistance Program No. 93.779, Medical Assistance Program; No. 93.773, Medicare—Hospital Insurance Program; and No. 93.774, Medicare—Supplementary Medical Insurance Program)
Dated: September 15, 2004.
Mark B. McClellan,
Administrator, Centers for Medicare & Medicaid Services.

[FR Doc. 04-27527 Filed 12-14-04; 8:45 am]

BILLING CODE 4120-01-P